SOCIAL SECURITY ADMINISTRATION

Statement of Organization, Functions and Delegations of Authority

This statement amends Part T of the Statement of the Organization, Functions and Delegations of Authority which covers the Social Security Administration (SSA). The Office of the Deputy Commissioner, Communications (ODCComm) is establishing the Office of Electronic Communications which will be responsible for the development, content, and coordination of SSA's internal and external Web marketing activities. The new material and changes are as follows:

SectionTE.10 The Office of Deputy Commissioner, Communications—(Organization):

Establish under paragraph D. The Office of Communications Planning and Technology (TEB) as number 3:

3. The Office of Electronics Communications (SAC Needed)

SectionTE.20 The Office of the Deputy Commissioner, Communications—(Functions):

Add as last sentence in paragraph D:

Serves as the focal point for all issues involving the development, clearance and placement of content material on SSA's official Internet/Intranet websites. Responsible for the development, content, and coordination of SSA's internal and external Web marketing activities.

Add as paragraph number 3 under paragraph D:

3. The Office of Electronic Communications (SAC Needed)

a. Directs the Agency's internal and external communications activities as disseminated via the Internet/Intranet.

b. Provides ongoing technical advice and support to all SSA Headquarters and field components on the full range of Public Information/Public Affairs (PI/PA) issues as they relate to the Internet/Intranet.

c. Develops, implements and monitors national policies, standards, guidelines, objectives and measures of PI/PA as they relate to the Internet/Intranet.

d. Develops strategies to address PI/PA issues, such as special communications needs of the non-English speaking population and people with disabilities through the use of the Internet/Intranet.

e. Consults and negotiates with key Agency officials and leaders of other public and private organizations to achieve desired outcomes.

f. Directs and coordinates content management activities requiring cross-component cooperation.

g. Provides guidance on organization, clarity and audience focus of content submitted for placement on SSA's internal and external websites.

h. Directs, coordinates and develops internal and external web marketing activities and materials.

Dated: May 12, 2004.
Reginald F. Wells,
Deputy Commissioner for Human Resources.

[FR Doc. 04-11368 Filed 5-19-04; 8:45 am]

BILLING CODE 4191-02-P